SMALL BUSINESS ADMINISTRATION

Region I Advisory Council; Public Meeting

The U.S. Small Business Administration Region I Advisory Council, located in the geographical area of Augusta, Maine will hold a public meeting at 10:00 a.m. on February 27, 2001 at the U.S. Federal Building, 40 Western Avenue, Room 510, Augusta, Maine to discuss such matters as may be presented by members, staff of the U.S. Small Business Administration, or others present.

For further information, write or call Mary McAleney, District Director, U.S. Small Business Administration, 40 Western Avenue, Augusta, Maine 04330; telephone 207-622-8378.

Nancyellen Gentile,
Committee Management Officer.

[FR Doc. 01-2678 Filed 1-30-01; 8:45 am]

BILLING CODE 8025-01-U